DEPARTMENT OF THE INTERIOR

Bureau of Land Management

[WY-957-07-1420-BJ]

Notice of Filing of Plats of Survey, Wyoming

AGENCY: Bureau of Land Management, Interior.

ACTION: Notice of filing of plats of survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The plat and field notes representing the dependent resurvey of a portion of the north boundary and a portion of the subdivisional lines, Township 50 North, Range 79 West, Sixth Principal Meridian, Wyoming, Group No. 748, was accepted and filed November 17, 2006.

The plat and field notes representing the dependent resurvey of the east boundary, a portion of the north boundary and a portion of the subdivisional lines, Township 51 North, Range 79 West, Sixth Principal Meridian, Wyoming, Group No. 750, was accepted and filed November 17, 2006.

The plat that represents the entire record of the survey of a portion of the boundary between the Grand Teton National Park and the Bridger-Teton National Forest, along the hydrographic divide as defined by Congressional Act, February 26, 1929, Public Law 70-817, within the unsurveyed portion of Township 42 North, Range 117 West, Sixth Principal Meridian, Wyoming, Group No. 764, was accepted and filed January 31, 2007.

Copies of the preceding described plats and field notes are available to the public at a cost of $1.10 per page.

Dated: March 13, 2007.
John P. Lee,
Chief Cadastral Surveyor, Division of Support Services.

[FR Doc. E7-4923 Filed 3-16-07; 8:45 am]

BILLING CODE 4310-22-P